DEPARTMENT OF DEFENSE

Defense Acquisition Regulations System

48 CFR Parts 203, 204, 205, 207, 208, 211, 212, 213, 215, 216, 217, 219, 222, 223, 225, 226, 227, 232, 234, 237, 239, 242, 243, 244, 245, 246, 247, and 252

[Docket DARS-2022-0004]

RIN 0750-AK31

Defense Federal Acquisition Regulation Supplement: Revision of Definition of “Commercial Item” (DFARS Case 2018-D066)

AGENCY: Defense Acquisition Regulations System, Department of Defense (DoD).

ACTION: Proposed rule; correction.

SUMMARY: DoD is correcting proposed regulations that published in the Federal Register on March 18, 2022. The document included an incorrect hyperlink. This document reflects the correct hyperlink.

DATES: Comments for the proposed rule published March 18, 2022, at 87 FR 15820, continue to be accepted on or before May 17, 2022, to be considered in the formulation of a final rule.

ADDRESSES: Submit comments identified by DFARS Case 2018-D066, using any of the following methods:

• Federal eRulemaking Portal: https://www.regulations.gov. Search for “DFARS Case 2018-D066”. Select “Comment Now” and follow the instructions provided to submit a comment. Please include “DFARS Case 2018-D066” on any attached documents.

• Email: osd.dfars@mail.mil. Include DFARS Case 2018-D066 in the subject line of the message.

Comments received generally will be posted without change to https://www.regulations.gov, including any personal information provided. To confirm receipt of your comment(s), please check https://www.regulations.gov, approximately two to three days after submission to verify posting.

FOR FURTHER INFORMATION CONTACT: Ms. Jennifer D. Johnson, telephone 571-372-6100.

SUPPLEMENTARY INFORMATION: On March 18, 2022, DoD published a proposed rule in the Federal Register at 87 FR 15820 titled “Revision of Definition of “Commercial Item” (DFARS Case 2018-D066)”. The hyperlink at the end of the “I. Background” section contained an incorrect hyperlink for the referenced Section 809 Panel Report. The correct hyperlink is “https://discover.dtic.mil/section-809-panel/”.

Jennifer D. Johnson,
Editor/Publisher, Defense Acquisition Regulations System.

[FR Doc. 2022-06815 Filed 3-31-22; 8:45 am]

BILLING CODE 5001-06-P